DEPARTMENT OF DEFENSE

Department of the Navy

Notice of Availability of Government-Owned Inventions; Available for Licensing

AGENCY: Department of the Navy, DOD.

ACTION: Notice.

SUMMARY: The inventions listed below are assigned to the U.S. Government as represented by the Secretary of the Navy and are available for licensing by the Department of the Navy.

U.S. Patent No. 6,592,681: FLOATING OIL BOOM CLEANING APPARATUS.//U.S. Patent No. 6,601,529: STABLIZED TUMBLEHOME HULL FORM.//U.S. Patent No. 6,606,526: SYSTEM BEHAVIOR MODIFICATION FOR MAINTENANCE OF CHAOS.//U.S. Patent No. 6,606,959: HIGH SPEED DRAG REDUCING VENTILATION FOR MARINE VESSEL HULLS.//U.S. Patent No. 6,606,960: SCUBA DIVER FARING.//U.S. Patent No. 6,611,151: COATING ASSESSMENT SYSTEM BASED ON ELECTROCHEMICAL NOISE.//U.S. Patent No. 6,612,155: TESTING CONDITION OF INTERNAL COMBUSTION ENGINES BY SAMPLED DETECTION OF GAS LEAKAGE.//U.S. Patent No. 6,624,416: UNCOOLED NIOBIUM TRISULFIDE MIDWAVELENGTH INFRARED DETECTOR.//U.S. Patent No. 6,628,036: ELECTRICAL CURRENT TRANSFERRING AND BRUSH PRESSURE EXERTING SPRING DEVICE.//U.S. Patent No. 6,632,762: OXIDATION RESISTANT COATING FOR CARBON.//U.S. Patent No. 6,635,368: HTS FILM-BASED ELECTRONIC DEVICE CHARACTERIZED BY LOW ELF AND WHITE NOISE.//U.S. Patent No. 6,643,337: CODIFFERENCE CORRELATOR FOR IMPULSIVE SIGNALS AND NOISE.//U.S. Patent No. 6,659,290: OIL WATER SEPARATOR WITH AIR SPARGING ARRAY FOR IN-SITU CLEANING.//U.S. Patent No. 6,663,803: FABRICATION OF A FRACTALLY ATTRIBUTIVELY DELAMINATION RESISTIVE COMPOSITE STRUCTURE.//U.S. Patent No. 6,686,917: MINE LITTORAL THREAT ZONE VISUALIZATION PROGRAM.//U.S. Patent No. 6,688,819: MODULAR MULTI-FUNCTION VEHICLE INTERFACE SYSTEM.//U.S. Patent No. 6,694,271: INTEGRATED CIRCUIT BREAKER PROTECTION SOFTWARE.//U.S. Patent No. 6,696,126: VISUAL-TACTILE SIGNAGE.//U.S. Patent No. 6,698,370: HYDRODYNAMIC AND SUPPORTIVE STRUCTURE FOR GATED SHIP STERN.//U.S. Patent No. 6,710,328: FIBER OPTIC COMPOSITE DAMAGE SENSOR.//U.S. Patent No. 6,714,008: GRADIOMETRIC MEASUREMENT METHODOLOGY FOR DETERMINING MAGNETIC FIELDS OF LARGE OBJECTS.//U.S. Patent No. 6,725,130: METHOD, APPARATUS AND CONTROL LOGIC FOR DAMAGE RECONFIGURATION OF AN ELECTRO-MECHANICAL SYSTEM.//U.S. Patent No. 6,729,383: FLUID-COOLED HEAT SINK WITH TURBULENCE-ENHANCING SUPPORT PINS.//U.S. Patent No. 6,734,602: LINEAR MAGNETOSTRICTIVE ACTUATOR.//U.S. Patent No. 6,737,776: HYBRID LINEAR MOTOR.//U.S. Patent No. 6,738,315: UNDERWATER TARGET TESTING.//U.S. Patent No. 6,740,205: PROCESSING OF SHIPBOARD WASTEWATER.

ADDRESSES: Requests for copies of the patents cited should be directed to: Naval Surface Warfare Center Carderock Division, Code 0117, 9500 MacArthur Blvd, West Bethesda, MD 20817-5700, and must include the patent number.

FOR FURTHER INFORMATION CONTACT: Joseph Teter Ph.D., Director, Technology Transfer Office, Naval Surface Warfare Center Carderock Division, Code 0117, 9500 MacArthur Blvd, West Bethesda, MD 20817-5700, telephone (301) 227-4299.

(Authority: 35 U.S.C. 207, 37 CFR Part 404.)

Dated: June 15, 2004.
S.K. Melancon,
Paralegal Specialist, Office of the Judge Advocate General, Alternate Federal Register Liaison Officer.

[FR Doc. 04-14172 Filed 6-22-04; 8:45 am]

BILLING CODE 3810-FF-P